DEPARTMENT OF COMMERCE

National Oceanic and Atmospheric Administration

RIN 0648-XW21

Marine Mammals; File Nos. 15498 and 15500

AGENCY: National Marine Fisheries Service (NMFS), National Oceanic and Atmospheric Administration (NOAA), Commerce.

ACTION: Notice; receipt of application.

SUMMARY: Notice is hereby given that Chicago Zoological Society - Brookfield Zoo, 3300 Golf Road, Brookfield, IL 60513, and Georgia Aquarium, 225 Baker Street, NW, Atlanta, GA 30313, have each applied in due form for a permit to import Atlantic bottlenose dolphins (Tursiops truncatus) for public display.

DATES: Written, telefaxed, or e-mail comments must be received on or before June 2, 2010.

ADDRESSES: The applications and related documents are available for review upon written request or by appointment in the following office(s):

Permits, Conservation and Education Division, Office of Protected Resources, NMFS, 1315 East-West Highway, Room 13705, Silver Spring, MD 20910; phone (301) 713-2289; fax (301) 713-0376;

File No. 15498: Northeast Region, NMFS, 55 Great Republic Drive, Gloucester, MA 01930; phone (978) 281-9328; fax (978) 281-9394; and

File No. 15500: Southeast Region, NMFS, 263 13th Avenue South, Saint Petersburg, FL 33701; phone (727) 824-5312; fax (727) 824-5309.

Written comments or requests for a public hearing on these applications should be submitted to the Chief, Permits, Conservation and Education Division, at the address listed above. Comments may also be submitted by facsimile to (301) 713-0376, or by email to NMFS.Pr1Comments@noaa.gov. Please include the File No. in the subject line of the email comment. Those individuals requesting a hearing should set forth the specific reasons why a hearing on this particular request would be appropriate.

FOR FURTHER INFORMATION CONTACT: Jennifer Skidmore or Kristy Beard, (301) 713-2289.

SUPPLEMENTARY INFORMATION: The subject permits are requested under the authority of the Marine Mammal Protection Act of 1972, as amended (MMPA; 16 U.S.C. 1361 et seq.), and the regulations governing the taking and importing of marine mammals (50 CFR part 216).

File No. 15498: Chicago Zoological Society requests authorization to import one male and one female captive born bottlenose dolphin from Dolphin Quest Bermuda, Hamilton, Bermuda, to the Brookfield Zoo, Brookfield, IL, for the purpose of public display. The Brookfield Zoo is: (1) open to the public on regularly scheduled basis with access that is not limited or restricted other than by charging for an admission fee; (2) offers an educational program based on professionally accepted standards of the Alliance of Marine Mammal Parks and Aquariums; and (3) holds an Exhibitor's License, number 33-C-0003, issued by the U.S. Department of Agriculture under the Animal Welfare Act (7 U.S.C. §§ 2131 - 59).

File No. 15500: Georgia Aquarium requests authorization to import two male captive born bottlenose dolphins from Dolphin Experience, Ltd., Freeport, Grand Bahama Island, The Bahamas, and three female captive born bottlenose dolphins from Dolphin Quest Bermuda, Hamilton, Bermuda, to its facility in Atlanta, Georgia, for purposes of public display. Georgia Aquarium is: (1) open to the public on regularly scheduled basis with access that is not limited or restricted other than by charging for an admission fee; (2) offers an educational program based on professionally accepted standards of the Alliance of Marine Mammal Parks and Aquariums and the Association of Zoos and Aquariums; and (3) holds an Exhibitor's License, number 57-C-0220, issued by the U.S. Department of Agriculture under the Animal Welfare Act (7 U.S.C. §§ 2131 - 59).

In addition to determining whether the applicant meets the three public display criteria, NMFS must determine whether the applicants have demonstrated that the proposed activity is humane and does not represent any unnecessary risks to the health and welfare of marine mammals; that the proposed activity by itself, or in combination with other activities, will not likely have a significant adverse impact on the species or stock; and that the applicants' expertise, facilities and resources are adequate to accomplish successfully the objectives and activities stated in the applications.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: April 28, 2010.
P. Michael Payne,
Chief, Permits, Conservation and Education Division, Office of Protected Resources, National Marine Fisheries Service.

[FR Doc. 2010-10243 Filed 4-30-10; 8:45 am]

BILLING CODE 3510-22-S